DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on July 24, 2003. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Water Contracts and Repayment Office, Bureau of Reclamation, PO Box 25007, Denver, Colorado 80225-0007; telephone 303-445-2902.

SUPPLEMENTARY INFORMATION: Consistent with section 9(f) of the Reclamation Project Act of 1939 and 43 CFR 426.20 of the rules and regulations published in 52 FR 11954, April 13, 1987, Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

The February 28, 2003, notice should be used as a reference point to identify changes. The numbering system in this notice corresponds with the numbering system in the February 28, 2003, notice.

Definitions of Abbreviations Used in This Document

BCP—Boulder Canyon Project

Reclamation—Bureau of Reclamation

CAP—Central Arizona Project

CVP—Central Valley Project

CRSP—Colorado River Storage Project

FR—Federal Register

IDD—Irrigation and Drainage District

ID—Irrigation District

M&I—Municipal and Industrial

O&M—Operation and Maintenance

P-SMBP—Pick-Sloan Missouri Basin Program

PPR—Present Perfected Right

SOD—Safety of Dams

WD—Water District

Pacific Northwest Region: Bureau of Reclamation, 1150 North Curtis Road, Suite 100, Boise, Idaho 83706-1234, telephone 208-378-5223.

Modified contract action:

17. West Extension ID, Umatilla Project, Oregon: Amendatory repayment contract for long-term boundary expansions to include lands outside of federally recognized district boundaries.

Completed contract action:

17. Hermiston ID, Umatilla Project, Oregon: Amendatory repayment contract for long-term boundary expansions to include lands outside of federally recognized district boundaries. Contract executed on August 14, 2003.

Mid-Pacific Region: Bureau of Reclamation, 2800 Cottage Way, Sacramento, California 95825-1898, telephone 916-978-5250.

New contract actions:

45. Centinella WD, CVP, California: Proposed assignment of up to 2,500 acre-feet of Centinella WD's CVP water to Westlands WD for irrigation use.

46. Melvin D. and Mardella Hughes, CVP, California: Assignment of water service contract to Tranquility Public Utility District for agricultural use.

Completed contract action:

6. Mountain Gate Community Services District, CVP, California: Amendment of existing long-term water service contract to include right to renew. This amendment will also conform the contract to current Reclamation law, including Pub. L. 102-575. Interim renewal contract executed on July 28, 2003.

12. M&T, Inc., Sacramento River Water Rights Contractors, CVP, California: A proposed exchange agreement with M&T, Inc., to take Butte Creek water rights water from the Sacramento River in exchange for CVP water to facilitate habitat restoration. Exchange agreement executed on July 15, 2003.

Lower Colorado Region: Bureau of Reclamation, P.O. Box 61470 (Nevada Highway and Park Street), Boulder City, Nevada 89006-1470, telephone 702-293-8536.

New contract actions:

54. Arizona American Water Company (Sun City Division), CAP, Arizona: Subcontract with Central Arizona Water Conservation District for water service of 4,189 acre-feet of M&I water.

55. Arizona American Water Company (Sun City West Division), CAP, Arizona: Subcontract with Central Arizona Water Conservation District for water service of 2,372 acre-feet of M&I water.

56. Arizona American Water Company (Agua Fria Division), CAP, Arizona: Subcontract with Central Arizona Water Conservation District for water service of 11,092 acre-feet of M&I water.

57. Fisher's Landing Water and Sewer Works, LLC, BCP, Arizona: Contract for 53 acre-feet of Colorado River water to be used to account for domestic water use on residential properties located within the Castle Dome area of Martinez Lake.

58. Green Valley Water Company, CAP, Arizona: Assignment of subcontract entitlement of 1,900 acre-feet of M&I water to Green Valley Domestic Improvement District.

59. Midvale Farms Water Company, CAP, Arizona: Assignment of allocation for 1,500 acre-feet of M&I water to the City of Tucson.

Modified contract action:

1. Milton and Jean Phillips, John J. Peach, and Sunkist Growers, Inc., BCP, Arizona: Colorado River water delivery contracts, as recommended by the Arizona Department of Water Resources, with agricultural entities located near the Colorado River for up to 3,168 acre-feet per year total.

7. Beattie Farms SW, BCP, Arizona: Contract for 1,110 acre-feet per year of fourth priority water.

Discontinued contract action:

1. Milton and Jean Phillips, Cameron Brothers Construction Co., Ogram Farms, John J. Peach, Sunkist Growers, Inc., BCP, Arizona: Colorado River water delivery contracts, as recommended by the Arizona Department of Water Resources, with agricultural entities located near the Colorado River for up to 3,168 acre-feet per year total. Recommendation for Cameron Brothers Construction Co., was rescinded by the Arizona Department of Water Resources.

Completed contract actions:

1. Milton and Jean Phillips, Cameron Brothers Construction Co., Ogram Farms, John J. Peach, Sunkist Growers, Inc., BCP, Arizona: Colorado River water delivery contracts, as recommended by the Arizona Department of Water Resources, with agricultural entities located near the Colorado River for up to 3,168 acre-feet per year total. Contract with Ogram Farms for 480 acre-feet per year has been executed.

Upper Colorado Region: Bureau of Reclamation, 125 South State Street, Room 6107, Salt Lake City, Utah 84138-1102, telephone 801-524-4419.

New contract action:

27. Russell, Harrison F. and Patricia E.; Aspinall Unit; CRSP; Colorado: Contract for 1 acre-foot of water to support an augmentation plan, Case No. 97CW39, Water Division Court No. 4, State of Colorado, to provide for a single-family residential well, including home lawn and livestock watering (non-commercial).

Completed contract actions:

1. (e) Upper Gunnison Water Conservancy District, Aspinall Storage Unit, CRSP, Colorado: Due to the continued extreme drought conditions in the Upper Gunnison River Basin, the District has requested a temporary 1-year water service contract for up to a maximum of 3,000 acre-feet of water out of Blue Mesa Reservoir to be resold by the District under temporary, 1-year, third-party contracts to water users located within the District's boundaries. Contract executed on April 1, 2003.

(f) Town of Lake City, Aspinall Storage Unit, CRSP, Colorado: Lake City has requested a 40-year water service contract for an additional 25 acre-feet of water out of Blue Mesa Reservoir to support its plan of augmentation. Lake City is working with the State of Colorado, Water Division 4 to develop a specific plan for using the augmentation water in accord with Colorado water law. Reclamation and Lake City have an existing 40-year contract, No. 9-07-40-R0790, dated May 5, 1989, for 25 acre-feet of water out of Blue Mesa Reservoir. Contract executed on July 16, 2003.

(g) Lazear Domestic Water Company, Aspinall Storage Unit, CRSP, Colorado: Lazear has requested a 40-year water service contract for an additional 44 acre-feet of water out of Blue Mesa Reservoir to support its plan of augmentation, Case No. 02WC253, District Court, Water Division 4. Reclamation and Lazear have an existing 25-year contract, No. 98-07-40-R5000, dated January 29, 1998, for 44 acre-feet of water out of Blue Mesa Reservoir. Contract executed on August 16, 2003.

26. Paul Hudgeons, Aspinall Storage Unit, CRSP, Colorado: Mr. Hudgeons has requested a 40-year water service contract for 1 acre-foot of water out of Blue Mesa Reservoir to support his plan of augmentation, Case No. 02WC283, District Court, Water Division 4. Contract executed on June 12, 2003.

Great Plains Region: Bureau of Reclamation, P.O. Box 36900, Federal Building, 316 North 26th Street, Billings, Montana 59107-6900, telephone 406-247-7790.

Modified contract actions:

3. Ruedi Reservoir, Fryingpan-Arkansas Project, Colorado: Second round water sales from the regulatory capacity of Ruedi Reservoir. Water service and repayment contracts for up to 17,000 acre-feet annually for M&I use.

5. City of Rapid City, Rapid Valley Unit, P-SMBP, South Dakota: Contract renewal for storage capacity in Pactola Reservoir. A temporary (1 year not to exceed 10,000 acre-feet) water service contract has been executed with the City of Rapid City, Rapid Valley Unit, for use of water from Pactola Reservoir. A long-term storage contract is being negotiated for water stored in Pactola Reservoir. Legislation is pending for change in the authorized use of Pactola storage.

15. Lower Marias Unit, P-SMBP, Montana: Water service contract with Robert A. Sisk, Sisk Ranch, expired in July 1998. Initiating long-term contract for the use of up to 552 acre-feet of storage water from Tiber Reservoir to irrigate 276 acres. This action will combine the two contracts presently held by Robert Sisk. Temporary/interim contracts are being issued to allow continued delivery of water and the time necessary to complete required actions for the long-term contract process.

16. Lower Marias Unit, P-SMBP, Montana: Negotiating for a long-term water service contract with Julie Peterson for the use of up to 717 acre-feet of storage water from Tiber Reservoir to irrigate 239 acres. Temporary/interim contracts are being issued to allow continued delivery of water and the time necessary to complete required actions for the long-term contract process.

22. Glendo Unit, P-SMBP, Wyoming: Amendments to long-term water service contracts with Burbank Ditch, New Grattan Ditch Company, Torrington ID, Lucerne Canal and Power Company, and Wright and Murphy Ditch Company to extend the contract term.

23. Glendo Unit, P-SMBP, Nebraska: Amendments to long-term water service contracts with Bridgeport, Enterprise, and Mitchell IDs, and Central Nebraska Public Power and ID to extend the contract term.

29. Park Board, P-SMBP, Dickinson Unit, North Dakota: A temporary contract has been negotiated with the Park Board for minor amounts of water from Dickinson Dam. Negotiate a long-term water service contract with the Park Board for minor amounts of water from Dickinson Dam.

33. Lower Marias Unit, P-SMBP, Montana: Initiating long-term water service contract with Allen Brown as Tiber Enterprises for up to 1,388 acre-feet of storage water from Tiber Reservoir to irrigate 694 acres. This action will combine the two contracts presently held by Tiber Enterprises. Temporary/interim contracts are being issued to allow continued delivery of water and the time necessary to complete required actions for the long-term contract process.

Completed contract actions:

3. Ruedi Reservoir, Fryingpan-Arkansas Project, Colorado: Second round water sales from the regulatory capacity of Ruedi Reservoir. Water service and repayment contracts for up to 17,000 acre-feet annually for M&I use; contract with the Colorado Water Conservation Board and U.S. Fish and Wildlife Service for 10,825 acre-feet for endangered fishes. Contract with the Colorado Water Conservation Board and the U.S. Fish and Wildlife Service executed on June 24, 2003.

24. Belle Fourche ID, Belle Fourche Project, South Dakota: Belle Fourche ID has requested a $25,000 reduction in construction repayment. Contract amendment executed on June 2, 2003.

39. Belle Fourche ID, Belle Fourche Project, South Dakota: Negotiate a temporary contract for additional supplemental water for up to 10,000 acre-feet from Keyhole Reservoir. Negotiate an amendment to the District's Keyhole Dam repayment contract for increased storage space to store additional amounts of water. A temporary 1-year contract for supplemental water from Keyhole Reservoir was executed on June 2, 2003. An amendment to the Keyhole Dam repayment contract may still be required in the future.

45. Frenchman Valley ID, Frenchman Unit, P-SMBP, Nebraska: Proposed contract amendment—request for deferment of annual payment due to severe drought. Contract amendment executed on July 14, 2003.

Dated: October 14, 2003.
Roseann Gonzales,
Acting Deputy Director, Office of Program and Policy Services.

[FR Doc.03-27108 Filed 10-27-03; 8:45am]

BILLING CODE 4310-MN-P